ENVIRONMENTAL PROTECTION AGENCY

40 CFR Part 52

[WI109-01-7339b, FRL-7115-8]

Approval and Promulgation of Air Quality Implementation Plans; Wisconsin; Automobile Refinishing Operations

AGENCY: Environmental Protection Agency.

ACTION: Proposed rule.

SUMMARY: The Environmental Protection Agency (EPA) is proposing to approve a February 1, 2001, request from Wisconsin to revise its State Implementation Plan (SIP) for ozone. Wisconsin's submittal revises the state's regulations to control volatile organic compound (VOC) emissions from automobile refinishing operations. In addition, on July 31, 2001, Wisconsin submitted a SIP revision that, among other things, renumbers a portion of the regulations submitted on February 1, 2001. EPA acted on the majority of the July 31, 2001 submittal in our approval of the state's one-hour ozone attainment demonstration. We are addressing the renumbering portion of that submittal with this proposed action. In the Final Rules section of this Federal Register, EPA is approving the state's SIP revision, as a direct final rule without prior proposal because the Agency views this as a noncontroversial revision and anticipates no adverse comments. A detailed rationale for the approval is set forth in the direct final rule. If we receive no adverse comments in response to that direct final rule, we plan to take no further action in relation to this proposed rule. If we receive significant adverse comments, in writing, which we have not addressed, we will withdraw the direct final rule and address all public comments received in a subsequent final rule based on this proposed rule. The EPA will not institute a second comment period on this document.

DATES: Written comments must be received on or before January 14, 2002.

ADDRESSES: Send written comments to: Carlton Nash, Chief, Regulation Development Section, Air Programs Branch, (AR-18J), U.S. Environmental Protection Agency, Region 5, 77 West Jackson Boulevard, Chicago, Illinois, 60604.

You may inspect copies of the documents relevant to this action during normal business hours at the following location: Regulation Development Section, Air Programs Branch, (AR-18J), U.S. Environmental Protection Agency, Region 5, 77 West Jackson Boulevard, Chicago, Illinois, 60604.

Please contact Kathleen D'Agostino at (312) 886-1767 before visiting the Region 5 office.

FOR FURTHER INFORMATION CONTACT: Kathleen D'Agostino, Environmental Engineer, Regulation Development Section, Air Programs Branch (AR-18J), U.S. Environmental Protection Agency, Region 5, 77 West Jackson Boulevard, Chicago, Illinois 60604, (312) 886-1767.

SUPPLEMENTARY INFORMATION:

Where Can I Find More Information About This Proposal and the Corresponding Direct Final Rule?

For additional information see the direct final rule published in the rules section of this Federal Register.

Dated: November 28, 2001.
Bertram C. Frey,
Acting Regional Administrator, Region 5.

[FR Doc. 01-30815 Filed 12-13-01; 8:45 am]

BILLING CODE 6560-50-P